DEPARTMENT OF AGRICULTURE

Farm Service Agency

[Docket ID FSA-2023-0005]

Application Fast Track Pilot Program—Extension

AGENCY: Farm Service Agency, USDA.

ACTION: Notice.

SUMMARY: The Farm Service Agency (FSA) is announcing the extension of the Application Fast Track (AFT) pilot program that was published August 3, 2023 (88 FR 51260-51265), and extended September 30, 2024 (89 FR 79504), which continues the expedited processing of qualified direct Operating Loans (OL) and Farm Ownership Loans (FO) to family farmers and ranchers. AFT has been available to all customers nationwide since January 1, 2024. AFT is being extended to allow for an expanded number of applicants that qualify for AFT and to allow FSA time to make the program permanent through publication of a final rule. FSA will see the pilot run until December 31, 2026 or until the aforementioned final rule is published, whichever is sooner. This will allow time for FSA to continue to evaluate the administrative effectiveness of AFT while drafting the final rule. The initial results of AFT reflect a significant improvement in processing times for all customers, and FSA is continuing to monitor loan performance, and overall satisfaction with the AFT pilot program from both customers and staff.

DATES: The effective date for the extension of AFT as provided in this notice is December 30, 2025.

FOR FURTHER INFORMATION CONTACT: Houston Bruck; telephone: (202) 650-7874; email: Houston.Bruck@usda.gov. Individuals with disabilities who require alternative means for communication should contact the USDA TARGET Center at (202) 720-2600 (voice and text telephone (TTY)) or dial 711 for Telecommunications Relay service (both voice and text telephone users can initiate this call from any telephone).

SUPPLEMENTARY INFORMATION:

Background

FSA is extending the “Application Fast Track” that was published August 3, 2023 (88 FR 51260-51265), which continues the expedited processing of qualified direct OLs and FOs to family farmers and ranchers. AFT provides an alternative underwriting process for applicants that meet certain financial benchmarks. AFT has been available to all customers nationwide since January 1, 2024. FSA is expanding AFT, enabling an increased number of applicants to qualify for the streamlined AFT process and will see the pilot run until December 31, 2026 or until FSA publishes a final rule to codify the program, whichever is sooner. All other AFT pilot provisions are unchanged in this notice from what was announced in the August 3, 2023, notice.

The August 3, 2023 notice that originally announced the pilot program (88 FR 51260-51265) provided specific details regarding which sections of 7 CFR parts 761, 764, and 765 were waived for the pilot program because they would have been contradictory to the alternative underwriting process that AFT provides. Those sections of the CFR will be amended before December 31, 2026, to permanently codify the alternative underwriting process provided by AFT. The affected sections of the CFR are: 7 CFR 761.8(a); 7 CFR 761.103(b)(6) and (7); 7 CFR 761.103(c)(2) and (4); 7 CFR 761.104 (c), (d), (e), (f), and (g); 7 CFR 764.107(b)(1); 7 CFR 764.154(a)(2); 7 CFR 764.154(b) and (b)(1); 7 CFR 764.254(a)(2); 7 CFR 764.254(b)(2); 7 CFR 764.401(a)(1)(i) and (b)(1); 7 CFR 764.453(a) and (b); and 7 CFR 765.105(b).

Authority

The authority to conduct AFT is provided in section 333D of the Consolidated Farm and Rural Development Act (CONACT, 7 U.S.C. 1983d), which authorizes pilot projects of limited scope and duration to evaluate processes and techniques to improve program efficiency and effectiveness.

AFT Initial Results

The initial results of AFT reflect a significant improvement in processing times for all customers, with no impact to portfolio performance and loan repayment. FSA is continuing to monitor loan performance, overall satisfaction with the AFT pilot program from both customers and staff, and the administrative effectiveness of AFT. The initial results of the AFT pilot program have resulted in approximately 23 percent of customers qualifying for AFT, with significant reduction in processing time for those applications of approximately 8 calendar days. FSA portfolio performance, loan repayment rates, and delinquency rates, have not been impacted by AFT.

Contact Information

Questions on AFT may be directed to the Farm Loan Programs staff in the local FSA county office. The local FSA county office may be found at http://www.farmers.gov/working-with-us/USDA-service-centers.

Paperwork Reduction Act Requirements

In accordance with the provisions of the Paperwork Reduction Act of 1995 (44 U.S.C. chapter 35), there are no changes to the information collection approved by OMB under control numbers 0560-0236 and 0560-0237.

Environmental Review

The environmental impacts have been considered in a manner consistent with the provisions of the National Environmental Policy Act (NEPA, 42 U.S.C. 4321-4347) and the USDA regulation for compliance with NEPA (7 CFR part 1b).

The purpose of AFT is to improve internal underwriting processes to expedite Farm Loan Programs application processing. The limited discretionary aspects of AFT do not have the potential to impact the human environment as they are administrative. Accordingly, these discretionary aspects are covered by the FSA Categorical Exclusions specified in 7 CFR 1b.4(c)(1)(i) that applies to Farm Loan Programs, provided no extraordinary circumstances are found to exist. As such, the implementation of AFT and the participation in AFT do not constitute major Federal actions that would significantly affect the quality of the human environment, individually or cumulatively. Therefore, FSA will not prepare an environmental assessment or environmental impact statement for this action and this document serves as documentation of the programmatic environmental compliance decision for this federal action.

Federal Assistance Programs

The title and number of the Federal assistance programs, as found in the Assistance Listing, to which this document applies is 10.406 Farm Operating Loans and 10.407 Farm Ownership Loans.

William Beam,
Administrator, Farm Service Agency.

[FR Doc. 2025-24060 Filed 12-30-25; 8:45 am]

BILLING CODE 3411-E2-P